DEPARTMENT OF ENERGY

Federal Energy Regulatory Commission

[Docket No. RT01-99-000]

Presentation on the Benefits of a Combined Northeast Regional Transmission; Organization Notice of Presentation

September 28, 2001.

Take notice that Mirant Corporation (Mirant) will present a study prepared by Energy and Environmental Analysis Incorporated of Rosslyn, Virginia, on the benefits of a combined Northeast RTO. This study was recently published in the Sept. 1, 2001 issue of Public Utilities Fortnightly.

Mirant will present the study at the Federal Energy Regulatory Commission, 888 First Street, NE., Washington, DC 20426. Two duplicate sessions are scheduled for Thursday, October 4, from 1:30-3:30 in the Commission Meeting Room, and Friday, October 5, from 9:30 to 11:30 in Rooms 3M-2A & B.

All interested persons are invited to attend, although seating is limited. Additional information about the presentation may be obtained by contacting Jo Tolley at (202) 208-1260.

Linwood A. Watson, Jr.,
Acting Secretary,

[FR Doc. 01-24896 Filed 10-3-01; 8:45 am]

BILLING CODE 6717-01-P